DEPARTMENT OF ENERGY

Federal Energy Regulatory Commission

[Docket No. RM01-12-000]

Electricity Market Design and Structure; Notice of Extension of Time and Opportunity To Submit Comments on Regional Transmission Organization Issues Discussed at Workshops

October 30, 2001.

As noticed on September 28, 2001 and October 5, 2001, a series of workshops was held from October 15 through October 19, 2001 at the Federal Energy Regulatory Commission, 888 First Street, NE., Washington, DC 20426. The purpose of the workshops was to discuss core issues related to the development of efficient electric markets in an era in which electric transmission systems will be operated by Regional Transmission Organizations (RTOs).

The Commission's staff has developed summaries of the key issues discussed at each workshop and is attaching those summaries to this notice, as well as posting the summaries on the Commission's website at www.ferc.gov under “RTO activities” to encourage further discussion on the development of RTOs.¹ These summaries reflect what the staff heard, including any points of consensus among the panelists at the workshops. The summaries are not intended to suggest that there is an industry-wide consensus. The primary purpose of releasing these summaries is to obtain alternative opinions on the issues addressed in these summaries. All interested persons are invited to submit written comments addressing these summaries or any other matter discussed at the workshops. While we are not providing a deadline for the submission of comments, and in effect are eliminating the November 5, 2001 deadline given in the October 5, 2001 notice, the comments should be submitted as soon as reasonably possible.

¹ The attachment is not being published in the Federal Register.

Comments related to this proceeding may be filed in paper format or electronically. Those filing electronically do not need to make a paper filing.

For paper filings, the original and 14 copies of the comments should be submitted to the Office of the Secretary, Federal Energy Regulatory Commission, 888 First Street, NE., Washington DC 20426 and should refer to Docket No. RM01-12-000.

To file the comments in an electronic format, access the Commission's website at www.ferc.gov, click on “e-Filing” and then follow the instructions for each screen. First time users will have to establish a user name and password. The Commission will send an automatic acknowledgment to the sender's E-mail address upon receipt of comments. User assistance for electronic filing is available at 202-208-0258 or by E-mail to efiling@ferc.fed.us. Comments should not be submitted to the E-mail address.

All comments will be placed in the Commission's public files and will be available for inspection in the Commission's Public Reference Room at 888 First Street, NE., Washington DC 20426, during regular business hours. Additionally, all comments may be viewed, printed, or downloaded remotely via the Internet through FERC's homepage using the RIMS link. User assistance for RIMS is available at 202-208-2222, or by E-mail to rimsmaster@ferc.fed.us. The comments may also be viewed by accessing the Commission's website at www.ferc.gov, clicking on “RTO Activities” and then clicking on “Electricity Market Design and Structure.”

David P. Boergers,
Secretary.

[FR Doc. 01-27675 Filed 11-2-01; 8:45 am]

BILLING CODE 6717-01-P